DEPARTMENT OF THE INTERIOR

Bureau of Land Management

[AZ-933-06, 5410-KD-A506; AZA-33530]

Application for Conveyance of Federal Mineral Interests, Yavapai County, Arizona

AGENCY: Bureau of Land Management, Interior.

ACTION: Notice of application.

SUMMARY: The surface owner of the lands described in this notice, aggregating approximately 640.00 acres, has filed an application for the purchase of the federally-owned mineral interests in the lands. Publication of this notice temporarily segregates the mineral interest from appropriation under the public land laws, including the mining law.

DATES: Interested persons may submit written comments to the Bureau of Land Management (BLM) at the address stated below. Comments must be received by no later than January 2, 2007.

Comments: Comments, including names, street addresses, and other contact information of respondents, will be available for public review. Individual respondents may request confidentiality. If you wish to request that the BLM consider withholding your name, street address, and other contact information, e.g., Internet address, FAX or phone number, from public review of disclosure under the Freedom of Information Act, you must state this prominently at the beginning of your written comment. The BLM will honor requests for confidentiality on a case-by-case basis to the extent allowed by law. The BLM will make available for public inspection in their entirety all submissions from organizations and businesses, and from individuals identifying themselves as representatives or officials of organizations or businesses.

ADDRESSES: Bureau of Land Management, Arizona State Office, One North Central Avenue, Suite 800, Phoenix, Arizona 85004. Detailed information concerning this action, including appropriate environmental information, is available for review at the above address.

FOR FURTHER INFORMATION CONTACT: Vivian Titus, Land Law Examiner, at the above address or at 602-417-9598.

SUPPLEMENTARY INFORMATION: The surface owner of the following described lands has filed an application pursuant to section 209 of the Federal Land Policy and Management Act of 1976, 43 U.S.C. 1719(b), for the purchase and conveyance of the Federally-owned mineral interest in the following described lands:

Gila and Salt River Base and Meridian, Yavapai County, Arizona.

T. 10 N., R. 4 W.,

Sec. 20, All.

Total Acres 640.00 more or less.

Effective immediately, the BLM will process the pending application in accordance with the regulations stated in 43 CFR part 2720. Written comments concerning the application must be received by no later than the date specified above in this notice. The purpose for a purchase and conveyance is to allow consolidation of surface and subsurface minerals ownership where (1) there are no known mineral values or (2) in those instances where the Federal mineral interest reservation interferes with or precludes appropriate nonmineral development and such development is a more beneficial use of the land than the mineral development.

On November 15, 2006, the mineral interests owned by the United States in the above described lands will be segregated to the extent that they will not be subject to appropriation under the public land laws, including the mining laws. The segregative effect shall terminate upon issuance of a patent or deed of such mineral interest; upon final rejection of the mineral conveyance application; or November 17, 2008, whichever occurs first.

(Authority: 43 CFR 2720.1-1(b))

Dated: August 31, 2006.
Elaine Y. Zielinski,
State Director.

[FR Doc. E6-19215 Filed 11-14-06; 8:45 am]

BILLING CODE 4310-32-P